DEPARTMENT OF TRANSPORTATION

Pipeline and Hazardous Materials Safety Administration

49 CFR Part 192

[Docket No. PHMSA-2018-0046; Amdt. No. 192-28]

RIN 2137-AF36

Pipeline Safety: Gas Pipeline Regulatory Reform; Correction

AGENCY: Pipeline and Hazardous Materials Safety Administration (PHMSA), Department of Transportation (DOT).

ACTION: Final rule; correction.

SUMMARY: PHMSA is correcting its Gas Pipeline Regulatory Reform final rule that published in the Federal Register on January 11, 2021. The rule makes miscellaneous changes to the regulatory requirements for gas pipeline systems.

DATES: This correction is effective March 21, 2021.

FOR FURTHER INFORMATION CONTACT: Sayler Palabrica, Transportation Specialist, by telephone at 202-366-0559.

SUPPLEMENTARY INFORMATION: PHMSA is correcting its Gas Pipeline Regulatory Reform final rule that published in the Federal Register on January 11, 2021 (86 FR 2210). PHMSA is correcting the amendatory instructions to 49 CFR 192.281 and appendix B to part 192. PHMSA is also correcting the new regulatory text at § 192.507(d) to remove the word “hydrostatic,” consistent with the unanimous recommendation of the Gas Pipeline Advisory Committee and the stated intent in the preamble of the final rule.¹

¹ See 86 FR 2210 at page 2234.

List of Subjects in 49 CFR Part 192

Fire prevention, Incorporation by reference, Pipeline safety, Security measures.

Corrections

In FR Doc. 2021-00208 that appears on page 2210 of the Federal Register on Monday, January 11, 2021, the following corrections are made:

§ 192.281 [Corrected]

1. On page 2240, in the second column, in part 192, in amendment 10, the instruction “In § 192.281, revise paragraph (c) to read as follow:” is corrected to read “In § 192.281, revise paragraph (c) introductory text to read as follows:”

2. On page 2241, in the third column, in amendatory instruction 17, paragraph (d) is corrected to read as follows:

§ 192.507 [Corrected]

* * * * *

(d) For fabricated units and short sections of pipe, for which a post installation test is impractical, a preinstallation pressure test must be conducted in accordance with the requirements of this section.

Appendix B to Part 192 [Corrected]

3. On page 2242, in the third column, in part 192 in amendment 25, the instructions are corrected to read:

a. In section I.A., remove the term “ASTM D2513-12ae1” and add in its place “ASTM D2513”; and

b. In section I.B., remove the term “ASTM D2513-12ae1” and add in its place “ASTM D2513”.

Issued in Washington, DC, on March 1, 2021, under authority delegated in 49 CFR 1.97.
Tristan H. Brown,
Acting Administrator.

[FR Doc. 2021-04576 Filed 3-4-21; 8:45 am]

BILLING CODE 4910-60-P